DEPARTMENT OF AGRICULTURE

Foreign Agricultural Service

Commodity Credit Corporation

Notice of Request for Extension of Currently Approved Information Collection

AGENCY: Foreign Agricultural Service and Commodity Credit Corporation, USDA.

ACTION: Notice and request for comments.

SUMMARY: In accordance with the Paperwork Reduction Act of 1995, this notice announces the Foreign Agricultural Service's (FAS) and Commodity Credit Corporation's (CCC) intention to request an extension from the Office of Management and Budget (OMB) for a currently approved information collection process in support of the Foreign Market Development (FMD) Program and the Market Access Program (MAP).

DATES: Comments on this notice must be received by September 6, 2022 to be assured of consideration.

ADDRESSES: You may send comments, identified by OMB Control Number 0551-0026, by any of the following methods:

• Federal eRulemaking Portal: http://www.regulations.gov. This portal enables respondents to enter short comments or attach a file containing lengthier comments.

• Email: PODadmin@usda.gov. Include OMB Control Number 0551-0026 in the subject line of the message.

• Mail, Courier, or Hand Delivery: Curt Alt, U.S. Department of Agriculture, Foreign Agricultural Service, 1400 Independence Avenue SW, Room 6512, Washington, DC 20250.

Instructions: All submissions received must include the agency names and OMB Control Number for this notice. All comments received will be posted without change to http://www.regulations.gov, including any personal information provided.

FOR FURTHER INFORMATION CONTACT: Curt Alt, 202 690-4784, Podadmin@usda.gov.

SUPPLEMENTARY INFORMATION: Title: Foreign Market Development Program and Market Access Program.

OMB Number: 0551-0026.

Expiration Date of Approval: September 30, 2022.

Type of Request: Extension of a currently approved information collection.

Abstract: The primary objective of the FMD and MAP programs is to encourage and aid in the creation, maintenance, and expansion of commercial export markets for U.S. agricultural products through cost-share assistance to eligible trade organizations. The programs are a cooperative effort between CCC and eligible trade organizations. Currently, there are approximately 67 organizations participating directly in the programs with activities in more than 100 countries.

Prior to initiating program activities, each FMD or MAP participant must submit a detailed application to FAS which includes an assessment of overseas market potential; market or country strategies, constraints, goals, and benchmarks; proposed market development activities; estimated budgets; and performance measurements. Each FMD or MAP participant is also responsible for submitting: (1) reimbursement claims for approved costs incurred in carrying out approved activities, (2) an end-of-year contribution report, (3) travel reports, and (4) progress reports/evaluation studies. FMD or MAP participants must maintain records on all information submitted to FAS. The information collected is used by FAS to manage, plan, evaluate, and account for government resources. The reports and records are required to ensure the proper and judicious use of public funds.

Estimate of Burden: Public reporting burden for this collection of information is currently estimated to average 21 hours per response.

Type of Respondents: Non-profit agricultural trade organizations, non-profit state regional trade groups, agricultural cooperatives, and state agencies.

Estimated Number of Respondents: 67.

Estimated Number of Responses per Respondent: 64.

Estimated Total Annual Burden on Respondents: 89,324 hours.

Copies of this information collection can be obtained from Dacia Rogers, the Agency Information Collection Coordinator, at Dacia.Rogers@usda.gov.

Request for Comments: Send comments regarding (a) whether the proposed collection of information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to respond, including through the use of automated, electronic, mechanical, or other technological collection techniques or other forms of information technology.

All comments received in response to this notice, including names and addresses when provided, will be a matter of public record. Comments will be available without change, including any personal information provided, for inspection online at http://www.regulations.gov and at the mail address listed above between 8:00 a.m. and 4:30 p.m., Monday through Friday, except holidays.

Comments will be summarized and included in the submission for Office of Management and Budget approval.

Persons with disabilities who require an alternative means for communication of information (Braille, large print, audiotape, etc.) should contact FAS-ReasonableAccommodation@usda.gov or Cynthia Stewart (RA Coordinator), cynthia.stewart@usda.gov.

Zach Ducheneaux,
Executive Vice President, Commodity Credit Corporation.
Daniel Whitley,
Administrator, Foreign Agricultural Service.

[FR Doc. 2022-14575 Filed 7-7-22; 8:45 am]

BILLING CODE 3410-10-P